DEPARTMENT OF AGRICULTURE

Submission for OMB Review; Comment Request

June 5, 2006.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), oira_submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

National Agriculture Statistics Service

Title: Distillers' Grains Survey.

OMB Control Number: 0535-NEW.

Summary of Collection: The National Agricultural Statistics Service (NASS) primary function is to prepare and issue official State and national estimates of crop and livestock production, disposition and prices. NASS has entered into an agreement with an agency of the State of Nebraska, the Nebraska Corn Development's Utilization and Marketing Board, to conduct a survey to measure livestock producers' use of distillers' grains, which are nutritional by-products of ethyl alcohol (ethanol) production. These distillers' grains contain valuable protein, fiber, vitamins, and minerals and can replace corn and protein in livestock rations. The Nebraska Corn Board, supported by State and national commodity and livestock organizations, proposes to establish a baseline measure of the current usage of distillers' grains and identify any barriers hindering livestock producers from utilizing distillers' grains and other ethanol by-products in their rations.

Need and Use of the Information: The information collected from the survey will benefit livestock producers, feed manufacturers, and corn producers as well as ethanol producers. The survey will determine whether and how the different types of livestock producers are utilizing distillers' grains and will identify usage patterns and preferences and lead to more efficient marketing and orderly growth. It will promote the use of by-products that are now disposed of instead of utilized as well as provide stability to this sector of the energy industry.

Description of Respondents: Farms.

Number of Respondents: 9,400.

Frequency of Responses: Reporting: One-time.

Total Burden Hours: 2,151.

Charlene Parker,
Departmental Information Collection Clearance Officer.

[FR Doc. E6-8970 Filed 6-8-06; 8:45 am]

BILLING CODE 3410-20-P